DEPARTMENT OF DEFENSE

Corps of Engineers, Department of the Army

Notice of Intent To Prepare a Draft Environmental Impact Statement for the Pearl River Section 211 Watershed Project for the Pearl River Watershed, Mississippi

AGENCY: Department of Defense, U.S. Army Corps of Engineers, DoD.

ACTION: Notice of Intent.

SUMMARY: Pursuant to Section 211 of the Water Resources Development Act of 1996, the Rankin-Hinds Pearl River Flood and Drainage Control District, in partnership with the U.S. Army Corps of Engineers (USACE), is conducting a re-analysis of all engineering, economic, and environmental factors relative to prospective flood alleviation measures in the Pearl River Watershed study area (the metropolitan Jackson area). The re-analysis will employ Department of the Army criteria and guidelines as well as local engineering and analytical criteria. This Draft Environmental Impact Statement (DEIS) will examine the reasonably foreseeable environmental impacts of all alternative courses of action that may be proposed.

FOR FURTHER INFORMATION CONTACT: Questions or comments may be submitted to Mr. Matthew Mallard, U.S. Army Engineer District, Vicksburg, CEMVN-PDN-UDP, 4155 Clay Street, Vicksburg, MS 39183-3435; (601) 631-5960 (voice) or (601) 631-5115 (fax); matthew.s.mallard@usace.army.mil.

SUPPLEMENTARY INFORMATION: Proposed Action. The Rankin-Hinds Pearl River Flood and Drainage Control District, as per the National Environmental Policy Act (42 U.S.C. 4321 et seq.) (NEPA) and NEPA regulations of the Council on Environmental Quality (40 CFR part 1500 et seq.) and Corps of Engineers (33 CFR part 230), proposes in partnership with the U.S Army Corps of Engineers (USACE) as authorized by Section 211 of the Water Resources Development Act of 1996, to investigate measures to alleviate flooding in the study area.

Alternatives The DEIS for will be developed to continue to evaluate alternatives, both new and those previously provided in a comprehensive plan for flood damage reduction dated 2007, Preliminary Feasibility Study and Draft Environmental Impact Statement.

Scoping Process.

Public Involvement. Re-scoping is the method by which the Corps of Engineers involves the public, federal and state resource agencies, Indian tribes, and other interested parties in identifying the environmental issues to be examined and in establishing a range of alternatives to be evaluated in an ongoing study. All are invited to participate in the re-scoping process by attending the public information meeting to be held August 29, 2013, by submitting comments on the proposed action or DEIS, or both.

Environmental Impact. A tentative list of resources and issues that may be evaluated in the DEIS includes aquatic resources, recreational and commercial fisheries, wildlife resources, water quality, air quality, threatened or endangered species, recreation resources, and cultural resources. Tentative socio-economic considerations that may be evaluated in the DEIS include business and industrial activity, tax revenue, population growth, community and regional development, transportation, housing, community cohesion, and navigation.

Re-scoping Meeting. A public information meeting will be held August 29, 2013, from 6 to 8:00 p.m., at the Agriculture & Forestry Museum, 1150 Lakeland Drive, Jackson, MS 39216.

Estimated Date of Availability of a DEIS. September 2014.

Dated; July 16, 2013.
Barbara Petersen,
Acting Chief, Programs and Project, Management Division.

[FR Doc. 2013-17907 Filed 7-24-13; 8:45 am]

BILLING CODE 3720-58-P